DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 77 FR 65390, dated October 26, 2012) is amended to reflect the reorganization of the Office of the Director, National Center for Environmental Health, Centers for Disease Control and Prevention.

Section C-B, Organization and Functions, is hereby amended as follows: Delete in its entirety the title Office of Financial and Administrative Services (CUG14), Office of the Director (CUG1), National Center for Environmental Health (CUG) and insert the title Office of Financial, Administrative, and Information Services (CUG14), Office of the Director (CUG1), National Center for Environmental Health (CUG).

Revise the functional statement for the Office of Financial, Administrative, and Information Services (CUG14), as follows:

After item (6), insert the following item: (7) enables and supports NCEH/ATSDR data management, systems development, and information security needs.

Dated: January 11, 2013.
Sherri A. Berger,
Chief Operating Officer, Centers for Disease Control and Prevention.

[FR Doc. 2013-01660 Filed 1-25-13; 8:45 am]

BILLING CODE 4160-18-M